DEPARTMENT OF HEALTH AND HUMAN SERVICES

National Institutes of Health

Laboratory Animal Welfare: Clarification of Position Statements on Implementation of the Eighth Edition of the Guide for the Care and Use of Laboratory Animals

AGENCY: National Institutes of Health, HHS.

ACTION: Notice.

SUMMARY: The National Institutes of Health (NIH) is providing clarification after analyzing public comments received regarding the 10 Position Statements that were developed to aid research institutions in their implementation of the 8th Edition of the Guide for the Care and Use of Laboratory Animals (Guide). In response to those comments, NIH has clarified Position Statements (1) Cost, (2) Housing, (2a) Nonhuman Primate Housing, (2c) Rodent Housing, and (3) Non-Pharmaceutical-Grade Substances.

FOR FURTHER INFORMATION CONTACT: Office of Laboratory Animal Welfare, Office of Extramural Research, NIH, RKL1, Suite 360, 6705 Rockledge Drive, Bethesda, MD 20892-7982; phone 301-496-7163.

SUPPLEMENTARY INFORMATION:

I. Background

Since 1985, the Public Health Service (PHS) Policy on Humane Care and Use of Laboratory Animals, authorized by Public Law 99-158, 42 U.S.C. 289d, and incorporated by reference at 42 CFR 52.8 and 42 CFR 52a.8, has required that institutions receiving PHS support for animal activities base their animal care and use programs on the current edition of the Guide. The 8th Edition of the Guide was published in January 2011 by the National Research Council of the National Academy of Sciences. (See http://www.nap.edu/catalog.php?record_id=12910.) Following a public comment period, NIH adopted the 8th Edition of the Guide in December 2011 and released 10 Position Statements to aid PHS-Assured institutions—those with an approved Animal Welfare Assurance—in their implementation of the Guide (76 FR 74803). The public was invited to submit comments on their understanding of the Position Statements until February 3, 2012 (76 FR 74804, http://grants.nih.gov/grants/guide/notice-files/NOT-OD-12-042.html). NIH received a total of 44 comments: 26 responses from those who identified themselves as individuals, 6 from PHS-Assured institutions, 2 from animal advocacy organizations, and 9 from professional organizations. The comments may be viewed at http://grants.nih.gov/grants/olaw/2011positionstatement_comments/web_listing.htm.

In response to those comments, NIH has clarified the following Position Statements: (1) Cost, (2) Housing, (2a) Nonhuman Primate Housing, (2c) Rodent Housing, and (3) Non-Pharmaceutical-Grade Substances. (See http://grants.nih.gov/grants/olaw/positionstatement_guide.htm.) For a summary of the changes in the Position Statements, see http://grants.nih.gov/grants/olaw/2011positionstatement_maysummary.pdf (PDF). For an archive of the original version, see http://grants.nih.gov/grants/olaw/2011positionstatement_decarchive.pdf (PDF).

II. Electronic Access

The 8th Edition of the Guide is available on the NIH Office of Laboratory Animal Welfare Web site at http://olaw.nih.gov.

Dated: June 19, 2012.
Francis S. Collins,
Director, National Institutes of Health.

[FR Doc. 2012-15596 Filed 6-25-12; 8:45 am]

BILLING CODE 4140-01-P